DEPARTMENT OF THE INTERIOR

Office of the Secretary

Proposed Renewal of Information Collection: OMB Control Number 1084-0010, Claim for Relocation Payments—Residential, DI-381 and Claim for Relocation Payments—Nonresidential, DI-382

AGENCY: Office of the Secretary, Office of Acquisition and Property Management.

ACTION: Notice and Request for Comments.

SUMMARY: In compliance with section 3506(c)(2)(A) of the Paperwork Reduction Act of 1995, the Office of Acquisition and Property Management announces the proposed extension of a public information collection and seeks public comments on the provisions thereof.

DATES: Consideration will be given to all comments received by December 8, 2008.

ADDRESSES: Send your written comments to Mary Heying, Office of Acquisition and Property Management, 1849 C St., NW., MS 2607 MIB, Washington, DC 20240. Send any faxed comments to (202) 219-4244. Sende-mailed comments to mary_heying@ios.doi.gov.

FOR FURTHER INFORMATION CONTACT: Requests for additional information on this proposed information collection or its Relocation Forms should be directed to Mary Heying, Office of Acquisition and Property Management, 1849 C Street, NW., MS 2607 MIB, Washington, DC 20240, or send your request bye-mail to mary_heying@ios.doi.gov, or by fax to (202) 219-4244.

SUPPLEMENTARY INFORMATION: Office of Management and Budget (OMB) regulations at 5 CFR part 1320, which implement the Paperwork Reduction Act of 1995 (Pub. L. 104-13), require that interested members of the public and affected agencies have an opportunity to comment on information collection and recordkeeping activities (see 5 CFR 1320.8(d)). This notice identifies an information collection activity that the Office of Acquisition and Property Management will submit to OMB for extension or re-approval. Form DI-381, Claim for Relocation Payments—Residential, and DI-382, Claim for Relocation Payments—Nonresidential, permit the applicant to present allowable moving expenses and certify to occupancy status, after having been displaced because of Federal acquisition of their real property.

Comments are invited on: (1) The need for the collection of information for the performance of the function of the agency; (2) the accuracy of the agency's burden estimates; (3) ways to enhance the quality, utility, and clarity of the information collections; and (4) ways to minimize the information collection burden on respondents, such as use of automated means of collection of the information. Individuals providing comments should reference Relocation Forms, OMB Control # 1084-0010. A summary of the public comments will accompany the Office of the Secretary's submission of the information collection request to OMB.

This notice provides the public with 60 days in which to comment on the following information collection activity:

Title: Claim for Relocation Payments—Residential, Claim for Relocation Payments—Nonresidential.

OMB Control Number: 1084-0010.

Summary: The information required is obtained through application made by displaced person(s) or business(es) to the funding agency for determination as to the specific amount of monies due under the law.

Bureau Form Numbers: DI-381, DI-382.

Frequency of Collection: On occasion.

Description of Respondents: Individuals and businesses who are displaced because of Federal acquisitions of their real property.

Total Annual Responses: 200.

Total Annual Burden Hours: 90 hours.

Dated: October 2, 2008.
Debra E. Sonderman,
Director, Office of Acquisition and Property Management.

[FR Doc. E8-24047 Filed 10-8-08; 8:45 am]

BILLING CODE 4310-RF-P